FEDERAL DEPOSIT INSURANCE CORPORATION

Sunshine Act Meeting

Pursuant to the provisions of the “Government in the Sunshine Act” (5 U.S.C. 552b), notice is hereby given that at 2:10 p.m. on Monday, March 26, 2001, the Board of Directors of the Federal Deposit Insurance Corporation met in closed session to consider matters relating to the Corporation's corporate and supervisory activities.

In calling the meeting, the Board determined, on motion of Director John M. Reich, seconded by Ms. Carolyn Buck, acting in the place and stead of Director Ellen S. Seidman (Director, Office of Thrift Supervision), concurred in by Chairman Donna Tanoue, and Director John D. Hawke, Jr. (Comptroller of the Currency), that Corporation business required its consideration of the matters on less than seven days' notice to the public; that no notice earlier than March 15, 2001, of the meeting was practicable; that the public interest did not require consideration of the matters in a meeting open to public observation; and that the matters could be considered in a closed meeting by authority of subsections (c)(2); (c)(4), (c)(6), (c)(8), (c)(9)(A)(ii), (c)(9)(B), and (c)(10) of the “Government in the Sunshine Act” (5 U.S.C. 552b(c)(2), (c)(4), (c)(6), (c)(8), (c)(9)(A)(ii), (c)(9)(B), and (c)(10)).

The meeting was held in the Board Room of the FDIC Building located at 550—17th Street, N.W., Washington, D.C.

Dated: March 26, 2001.
Federal Deposit Insurance Corporation.
James D. LaPierre,
Deputy Executive Secretary.

[FR Doc. 01-7866 Filed 3-27-01; 9:33 am]

BILLING CODE 6714-01-M